DEPARTMENT OF AGRICULTURE

Departmental Management; Public meeting on BioPreferred℠ Complex Products and Assemblies Designation and Industry Training on Selling Biobased Products to the Federal Government

AGENCY: Departmental Management, Office of Procurement and Property Management, USDA.

ACTION: Notice of public meeting and industry training.

SUMMARY: The U.S. Department of Agriculture (USDA) will hold a public meeting on February 24, 2010, for interested stakeholders to discuss the issue of complex assembly products that contain biobased materials and components. Complex assembly products are made of distinct materials and components where some or all of the components contain biobased materials. One example of a complex assembly product is an office chair where the seat cushion, fabric, seat base and plastic molding are produced using biobased materials.

This issue pertains to (1) the designation USDA of biobased products for a Federal procurement preference, as mandated by the Food, Conservation, and Energy Act of 2008, and (2) the potential implications for complex assembly products under the pending “USDA Certified Biobased Product” labeling program. Given the growing importance of biobased products to consumers, industry, and government, there is a clear need to assess the viability of complex products, and to do so using an agreed-upon and credible process.

Prior to the public meeting, USDA will conduct training for biobased manufacturers on February 23, 2010 from 1 p.m. to 5 p.m. (PST) to provide useful information on selling biobased products to the Federal government. Topics will include:

1. Using BioPreferred tools to position your business to sell or increase sales to the Federal government;

2. The General Services Administration (GSA) Schedules/Programs (also referred to as the Multiple Award Schedules and Federal Supply Schedules) and GSA Advantage; and

3. Selling products via the Department of Defense's (DOD) EMALL to the Defense Logistics Agency (DLA), the Department of Defense's largest logistics combat support agency.

Speakers will include representatives from GSA, DLA, and a former government procurement official.

Dates

Industry training: February 23, 2010, 1 p.m. to 5 p.m. (PST)

Public meeting: February 24, 2010, 8:30 a.m. to 1 p.m. (PST)

Meeting Location

University of California Riverside—The Pentland Hills Bear Cave, One Pentland Way, Riverside, CA 92507. Both the industry training and the public meeting will be at this location.

Pre-registration for both the public meeting on February 24, 2010, and industry training on February 23, 2010, is not required but would be helpful, particularly if you wish to make a presentation. If you wish to register to attend the public meeting, please do so at this Web site: http://www.cepd.iastate.edu/biopreferred-training and state whether or not you wish to be recognized to make a formal presentation. If you wish to register to attend the industry training, please do so at the above Web site. Both meetings are free of charge.

Directions to the Pentland Hills facility may be found at http://conferences.ucr.edu/Resources/Directions and a map of the UCA Riverside campus is accessible at http://campusmap.ucr.edu/campusMap.php. The Pentland Hills Bear Cave facility is #365 (pent) on the Campus Map. Parking for the event will be in Lot 21 at Pentland Hills. The parking rate is $5.00 per day.

Those unable to attend the public meeting in person may listen to the meeting by calling 866-433-4616. The pass code is “635195.” Participants using the audio bridge may submit questions or comments during the meeting to USDABioInfo@iastate.edu or through the webinar itself, the exact link of which will be sent to participants via email after registering. The industry training on the 23rd will be available only to those attending in person.

FOR FURTHER INFORMATION: Ron Buckhalt, BioPreferred Manager, U.S. Department of Agriculture, Office of Procurement and Property Management, 342 Reporters Building, 300 7th Street, SW., Washington, DC 20024, (202) 205-4008. RonB.Buckhalt@DA.USDA.GOV.

SUPPLEMENTARY INFORMATION: Section 9002 of the Farm Security and Rural Investment Act of 2002 (Pub. L. 107-171) established a program for the procurement of USDA designated biobased products by Federal agencies and a voluntary program for the labeling of USDA certified biobased products. The Food, Conservation, and Energy Act of 2008 (2008 Farm Bill) (Pub. L. 110-246) continued these programs and made certain changes to the Federal procurement preference program. USDA refers to the procurement preference program and the voluntary labeling program together as the BioPreferred℠ Program.

Due to the changes mandated by the 2008 Farm Bill, and the passage of five years since USDA first published the Guidelines for Designated Biobased Products for Federal Procurement (Guidelines) (7 CFR 2902), USDA intends to revise the Guidelines in 2010. USDA is holding three public meetings to gather input from interested stakeholders on what should be considered when revising the Guidelines. The first meeting, which occurred in January in Washington, DC, addressed evaluation of environmental impacts associated with the manufacture, use, and disposal of biobased products.

The purpose of the February 24th meeting, which is the second of the three meetings, is to stimulate discussion and gather input from stakeholders on how USDA can effectively implement the designation of complex assembly products for Federal preferred procurement status under the BioPreferred program as required by the 2008 Farm Bill. In addition, USDA is interested in obtaining comments on the potential impact of complex assembly designation on the pending “USDA Certified Biobased Product” labeling program.

Under the current Guidelines, USDA designates “finished” products by collecting information on available biobased products, manufacturers, and distributors to determine potential product categories, tests products for biobased content using ASTM International Standard Test Methods for Determining the Biobased Content of Solid, Liquid, and Gaseous Samples Using Radiocarbon Analysis, D-6866. USDA also currently evaluates environmental and human health benefits and lifecycle costs of categories using the Building for Environmental and Economic Sustainability (BEES) model developed by the National Institute of Standards and Technology.

To set the stage before opening the forum for public comment, USDA has invited to the public meeting speakers from USDA and the Environmental Protection Agency (EPA), as well as individuals from academia and industry who are well-versed in biobased materials, manufacturing and products. USDA is seeking answers to a series of questions about complex assembly products and their role in designating biobased products for Federal procurement.

These questions include:

• How should the designation of complex assemblies be organized?

• Are there definable categories with similar characteristics and common understanding?

• What entities are best positioned to help define the possible categories?

• Are there categories with greater potential to further the goals and intent of the BioPreferred program?

• What is the minimum allowable biobased content to be considered biobased?

• How should biobased content be calculated?

• What information should be provided to assist purchasers?

• What are the potential obstacles to purchasing designated complex assemblies?

• What differences should be included in the labeling program as opposed to the Federal procurement preference program?

Finally, USDA will hold a third public meeting at Iowa State University on April 1, 2010 to hear from interested stakeholders on how to designate intermediate ingredients and feedstocks that can be used to produce items subject to the Federal procurement preference program and how to automatically designate items composed of designated intermediate ingredients and feedstocks if the content of the designated intermediate ingredients and feedstocks exceeds 50 percent of the item (unless the Secretary determines a different composition percentage is appropriate). USDA will post a notice in the Federal Register when details are final regarding this Iowa public meeting, which will also have a training component.

Done in Washington, DC, this 20th day of January 2010.
Pearlie S. Reed,
Assistant Secretary for Administration, U.S. Department of Agriculture.

[FR Doc. 2010-2039 Filed 1-29-10; 8:45 am]

BILLING CODE P